DEPARTMENT OF HEALTH AND HUMAN SERVICES

Health Resources and Services Administration

Agency Information Collection Activities: Proposed Collection: Public Comment Request

AGENCY: Health Resources and Services Administration, HHS.

ACTION: Notice.

SUMMARY: In compliance with the requirement for opportunity for public comment on proposed data collection projects (Section 3506(c)(2)(A) of the Paperwork Reduction Act of 1995), the Health Resources and Services Administration (HRSA) announces plans to submit an Information Collection Request (ICR), described below, to the Office of Management and Budget (OMB). Prior to submitting the ICR to OMB, HRSA seeks comments from the public regarding the burden estimate, below, or any other aspect of the ICR.

DATES: Comments on this Information Collection Request must be received no later than May 2, 2016.

ADDRESSES: Submit your comments to paperwork@hrsa.gov or mail the HRSA Information Collection Clearance Officer, Room 10-29, Parklawn Building, 5600 Fishers Lane, Rockville, MD 20857.

FOR FURTHER INFORMATION CONTACT: To request more information on the proposed project or to obtain a copy of the data collection plans and draft instruments, email paperwork@hrsa.gov or call the HRSA Information Collection Clearance Officer at (301) 443-1984.

SUPPLEMENTARY INFORMATION: When submitting comments or requesting information, please include the information request collection title for reference.

Information Collection Request Title: Health Center Program Application Forms OMB No. 0915-0285—Revision

Abstract: Health Centers (those entities funded under Public Health Service Act section 330 and Health Center Program Look-Alikes) deliver comprehensive, high quality, cost-effective primary health care to patients regardless of their ability to pay. Health centers have become an essential primary care provider for America's most vulnerable populations. Health centers advance the preventive and primary medical/health care home model of coordinated, comprehensive, and patient-centered care; providing a wide range of medical, dental, behavioral, and social services. More than 1,300 health centers operate more than 9,000 service delivery sites that provide care in every state, the District of Columbia, Puerto Rico, the U.S. Virgin Islands, and the Pacific Basin.

The Health Center Program is administered by HRSA's Bureau of Primary Health Care (BPHC). HRSA/BPHC uses the following application forms to oversee the Health Center Program.

Need and Proposed Use of the Information: BPHC Health Center Program-specific forms are critical to Health Center Program grant and non-grant award processes and for Health Center Program oversight. The purpose of these forms is to provide HRSA staff and objective review committee panels information essential for application evaluation, funding recommendation and approval, designation, and monitoring. These forms also provide HRSA staff with information essential for ensuring compliance with Health Center Program legislative and regulatory requirements. These application forms are used by existing health centers and other organizations to apply for various grant and non-grant opportunities, renew their grant or non-grant designation, and change their scope of project.

Most of the Health Center Program-specific forms do not require any changes with this revision. HRSA intends to revise some of the forms to streamline and clarify data already being requested (Form 1A, 1B, 2, 3, 5A, 5B, 6A, 8, Performance Measures, Project Work Plan) and change several form names (changing Form 3A to Look-Alike Budget Information, Form 10 to Emergency Preparedness Report, and Increased Demand for Services to Project Narrative). HRSA also intends to add six new forms. The Supplemental Information form and Summary Page will consolidate important application information that is usually found distributed throughout the application, including eligibility criteria and projected goals. These forms would require applicant confirmation that the information provided is accurate. Two additional forms would include the Program Narrative Update, used to report progress for the renewal of Health Center Program awards, and the Substance Abuse Progress Report, used to report quarterly progress for award recipients of Substance Abuse Expansion supplemental funding. Two other forms, the Health Center Controlled Networks Work Plan and Progress Report, are forms that have been used in the past (under another OMB control number) to collect application baseline data and progress metrics for grantees.

Likely Respondents: Health Center Program award recipients and look-alikes, state and national technical assistance organizations, and other organizations seeking funding.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information. The total annual burden hours estimated for this Information Collection Request are summarized in the table below.

Total Estimated Annualized Burden Hours
Form name | Number of respondents | Number of responses per respondent | Total responses | Average burden per response (in hours) | Total burden hours
Form 1A: General Information Worksheet | 1,700 | 1 | 1,700 | 1.0 | 1,700
Form 1B: BPHC Funding Request Summary | 450 | 1 | 450 | 0.75 | 337.5
Form 1C: Documents on File | 1,000 | 1 | 1,000 | 0.5 | 500
Form 2: Staffing Profile | 1,700 | 1 | 1,700 | 1.0 | 1,700
Form 3: Income Analysis | 1,900 | 1 | 1,900 | 2.5 | 4,750
Form 3A: FQHC Look-Alike Budget Information | 100 | 1 | 100 | 1.0 | 100
Form 4: Community Characteristics | 1,000 | 1 | 1,000 | 1.0 | 1,000
Form 5A: Services Provided | 1,700 | 1 | 1,700 | 1.0 | 1,700
Form 5B: Service Sites | 1,200 | 1 | 1,200 | 0.75 | 900
Form 5C: Other Activities/Locations | 1,000 | 1 | 1,000 | 0.5 | 500
Form 6A: Current Board Member Characteristics | 1,000 | 1 | 1,000 | 0.5 | 500
Form 6B: Request for Waiver of Governance Requirements | 100 | 1 | 100 | 1.0 | 100
Form 8: Health Center Agreements | 600 | 1 | 600 | 0.75 | 450
Form 9: Need for Assistance Worksheet | 500 | 1 | 500 | 4.5 | 2,250
Form 10: Annual Emergency Preparedness Report | 1,000 | 1 | 1,000 | 1.0 | 1,000
Form 12: Organization Contacts | 1,000 | 1 | 1,000 | 0.5 | 500
Clinical Performance Measures | 1,000 | 1 | 1,000 | 2 | 2,000
Financial Performance Measures | 1,000 | 1 | 1,000 | 1 | 1,000
Implementation Plan | 900 | 1 | 900 | 3.0 | 2,700
Project Work Plan | 200 | 1 | 200 | 4.0 | 800
Proposal Cover Page | 400 | 1 | 400 | 1.0 | 400
Project Cover Page | 400 | 1 | 400 | 1.0 | 400
Equipment List | 400 | 1 | 400 | 1.0 | 400
Other Requirements for Sites | 400 | 1 | 400 | 0.5 | 200
Funding Sources | 400 | 1 | 400 | 0.5 | 200
Project Qualification Criteria | 400 | 1 | 400 | 1.0 | 400
O&E Supplemental | 1,200 | 1 | 1,200 | 1.0 | 1,200
O&E Progress Report | 1,200 | 1 | 1,200 | 1.0 | 1,200
Checklist for Adding a New Service Delivery Site | 700 | 1 | 700 | 2.0 | 1,400
Checklist for Deleting Existing Service Delivery Site | 700 | 1 | 700 | 2.0 | 1,400
Checklist for Adding New Service | 700 | 1 | 700 | 2.0 | 1,400
Checklist for Deleting Existing Service | 700 | 1 | 700 | 2.0 | 1,400
Checklist for Replacing Existing Service Delivery Site | 700 | 1 | 700 | 2.0 | 1,400
Checklist for Adding a New Target Population | 50 | 1 | 50 | 1.0 | 50
Increased Demand for Services | 1,400 | 1 | 1,400 | 1 | 1,400
Supplemental Information (NEW) | 2,000 | 1 | 2,000 | 0.5 | 1,000
Summary Page (NEW) | 1,700 | 1 | 1,700 | 0.25 | 425
Program Narrative Update (NEW) | 900 | 1 | 900 | 1 | 900
Substance Abuse Progress Report (NEW) | 300 | 4 | 1,200 | 1 | 1,200
Health Center Controlled Networks Progress Report (NEW) | 93 | 1 | 93 | 25 | 2,325
Health Center Controlled Networks Work Plan (NEW) | 93 | 1 | 93 | 5 | 465
Total | 33,886 |  | 34,786 |  | 43,652.5

HRSA specifically requests comments on (1) the necessity and utility of the proposed information collection for the proper performance of the agency's functions, (2) the accuracy of the estimated burden, (3) ways to enhance the quality, utility, and clarity of the information to be collected, and (4) the use of automated collection techniques or other forms of information technology to minimize the information collection burden.

Jackie Painter,
Director, Division of the Executive Secretariat.

[FR Doc. 2016-04535 Filed 3-1-16; 8:45 am]

BILLING CODE 4165-15-P